ENVIRONMENTAL PROTECTION AGENCY

[FRL-9712-01-OMS]

Privacy Act of 1974; System of Records

AGENCY: Office of Enforcement and Compliance Assurance (OECA), Environmental Protection Agency (EPA).

ACTION: Rescindment of a system of records notice.

SUMMARY: The U.S. Environmental Protection Agency's (EPA), National Enforcement Training Institute is giving notice that it proposes to rescind a system of records pursuant to the provisions of the Privacy Act of 1974. The NETI eLearning Center was used by Federal, State, Local, and Tribal environmental enforcement and compliance personnel for online distance learning. The EPA used this system to maintain registration information of internal and external users and records of training attendance and completion. The Office of Enforcement and Compliance Assurance (OECA) will no longer maintain the NETI eLearning Center.

DATES: EPA OECA discontinued use of the NETI eLearning Center in July 2020.

ADDRESSES: Submit your comments, identified by Docket ID No. EPA-HQ-OE1-2015-0201, by one of the following methods:

Regulations.gov: www.regulations.gov. Follow the online instructions for submitting comments.

Email: oei.docket@epa.gov.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OE1-2015-0201. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC 20460.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mailand faxes. Hand deliveries and couriers may be received by scheduled appointment only. For further information on EPA Docket Center services and the current status, please visit us online at https://www.epa.gov/dockets. The telephone number for the Public Reading Room is (202) 566-1744, and the telephone number for the OMS Docket is (202) 566-1752.

FOR FURTHER INFORMATION CONTACT: Roger Jones, Program Analyst, EPA National Enforcement Training Institute, OECA, 1200 Pennsylvania Avenue NW, Washington, DC 20460 (Email: Jones.Roger@epa.gov) Phone number: 202-564-4794.

SUPPLEMENTARY INFORMATION: EPA is giving notice that FedTalent has replaced the NETI eLearning Center as the Learning Management System (LMS) for the Office of Compliance within EPA's OECA. All records previously maintained in the NETI eLearning Center were downloaded and will be expunged according to the requirements of records schedule 1029 (Employee Training Records). All FedTalent records are covered by the Human Resources Line of Business system of records notice (SORN), EPA-93.

SYSTEM NAME AND NUMBER:

NETI eLearning Center, EPA-47.

HISTORY:

66 FR 49947 (October, 2001)—OCEFT/NETI Training Registration and Administration Records.

82 FR 32359 (July 2017)—Notice of a Modified System of Records. EPA amended the SORN to change the system name from NETI Online to the NETI eLearning Center and to change the system location from the Office of Criminal Enforcement to NETI in the Office of Compliance (the NETI division).

Vaughn Noga,
Senior Agency Official for Privacy.

[FR Doc. 2022-09196 Filed 4-28-22; 8:45 am]

BILLING CODE 6560-50-P